DEPARTMENT OF TRANSPORTATION

Pipeline and Hazardous Materials Safety Administration

49 CFR Part 192

[Docket No. PHMSA-2009-0203]

Pipeline Safety: Notice of Technical Pipeline Safety Advisory Committee Meetings

AGENCY: Pipeline and Hazardous Materials Safety Administration (PHMSA); DOT.

ACTION: Notice of technical pipeline safety advisory committee meetings.

SUMMARY: This notice announces a public meeting of the Technical Pipeline Safety Standards Committee (TPSSC) and of the Technical Hazardous Liquid Pipeline Safety Standards Committee (THLPSSC). The PHMSA staff will brief the committee members on pipeline regulatory actions and policy concerns. The purpose of the meeting is to keep the members updated on current safety concerns, proposed rules, and future proposals.

DATES: The meeting will be on Thursday, August 19, 2010, from 1 p.m. to 4 p.m. EST.

FOR FURTHER INFORMATION CONTACT: Cheryl Whetsel by phone at 202-366-4431 or by e-mail at cheryl.whetsel@dot.gov.

SUPPLEMENTARY INFORMATION:

I. Meeting Details

The TPSSC and the THLPSSC will take part in the meeting by telephone conference call. The public may attend the meeting at the U.S. Department of Transportation, 1200 New Jersey Avenue, SE., Washington, DC 20590, Room E27-302. Attendees should register in advance at http://primis.phmsa.dot.gov/meetings/MtgHome.mtg?mtg=66. PHMSA will post any new information or changes on the PHMSA/Office of Pipeline Safety web page (http://PHMSA.dot.gov) about 15 days before the meeting takes place.

Comments on the meeting may be submitted to the docket in the following ways:

E-Gov Web Site: http://www.regulations.gov. This site allows the public to enter comments on any Federal Register notice issued by any agency.

Fax: 1-202-493-2251.

Mail: Docket Management Facility; U.S. Department of Transportation (DOT), 1200 New Jersey Avenue, SE., West Building, Room W12-140, Washington, DC 20590-001.

Hand Delivery: Room W12-140 on the ground level of the DOT West Building, 1200 New Jersey Avenue, SE., Washington, DC, between 9 a.m. and 5 p.m., Monday through Friday, except Federal Holidays.

Instructions: Identify the docket number, PHMSA-2009-0203 at the beginning of your comments. Note that all comments received will be posted without change to http://www.regulations.gov, including any personal information provided. You should know that anyone is able to search the electronic form of all comments received into any of our dockets by the name of the individual submitting the comment (or signing the comment, if submitted on behalf of an association, business, labor union, etc.). Therefore, you may want to review DOT's complete Privacy Act Statement in the Federal Register published on April 11, 2000 (65 FR 19477) or view the Privacy Notice at http://www.regulations.gov before submitting any such comments.

Docket: For access to the docket or to read background documents or comments, go to http://www.regulations.gov at any time or to Room W12-140 on the ground level of the DOT West Building, 1200 New Jersey Avenue, SE., Washington, DC, between 9 a.m. and 5 p.m., Monday through Friday, except Federal holidays.

If you wish to receive confirmation of receipt of your written comments, please include a self-addressed, stamped postcard with the following statement: “Comments on PHMSA-2009-0203.” The Docket Clerk date stamps the postcard prior to returning it to you via the U.S. mail. Please note that due to delays in the delivery of U.S. mail to Federal offices in Washington, DC, we recommend that persons consider an alternative method (internet, fax, or professional delivery service) of submitting comments to the docket and ensuring their timely receipt at DOT.

Privacy Act Statement

Anyone may search the electronic form of comments received in response to any of our dockets by the name of the individual submitting the comment (or signing the comment, if submitted on behalf of an association, business, labor union, etc.). DOT's complete Privacy Act Statement was published in the Federal Register on April 11, 2000 (65 FR 19477).

Information on Services for Individuals With Disabilities

For information on facilities or services for individuals with disabilities, or to seek special assistance at the meetings, please contact Cheryl Whetsel at 202-366-4431 by August 16, 2010.

II. Committee Background

These two statutorily-mandated committees advise PHMSA on proposed safety standards, risk assessments, and safety policies for natural gas pipelines and for hazardous liquid pipelines. Both committees fall under the Federal Advisory Committee Act (Pub. L. 92-463, 5 U.S.C. App. 1) and both are mandated by the pipeline safety law (49 U.S.C. Chap. 601). Each committee consists of 15 members—with membership evenly divided among the Federal and State Government, the regulated industry, and the public. The committees advise PHMSA on technical feasibility, practicability, and cost-effectiveness of each proposed pipeline safety standard.

III. Preliminary Agenda

The PHMSA staff will brief the committees on several regulatory and policy initiatives including:

• Pipeline safety reauthorization.

• PHMSA accomplishments (National Transportation Safety Board, General Accounting Office, Congressional mandates).

• PHMSA priorities (new construction, damage prevention), and the status of PHMSA rulemaking initiatives.

• Administrative matters of the committee (charter, how we can best conduct business).

Authority: 49 U.S.C. 60102, 60115; 60118.

Issued in Washington, DC, on July 27, 2010.
Jeffrey D. Wiese,
Associate Administrator for Pipeline Safety.

[FR Doc. 2010-19063 Filed 8-2-10; 8:45 am]

BILLING CODE 4910-60-P